DEPARTMENT OF HEALTH AND HUMAN SERVICES

Centers for Disease Control and Prevention

[60Day-21-21EL; Docket No. CDC-2021-0041]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled National Learning Community for HIV CBO Leadership Evaluation. The purpose of this data collection is to evaluate the National Learning Community for HIV CBO Leadership which is a component of cooperative agreement CDC-RFA-PS19-1904: Capacity Building Assistance (CBA) for High Impact HIV Prevention Program Integration.

DATES: CDC must receive written comments on or before June 25, 2021.

ADDRESSES: You may submit comments, identified by Docket No. CDC-2021-0041 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including the use of appropriate automated, electronic, mechanical, or other technological collection techniques or other forms of information technology, e.g., permitting electronic submissions of responses; and

5. Assess information collection costs.

Proposed Project

National Learning Community for HIV CBO Leadership Evaluation—New—National Center for HIV/AIDS, Viral Hepatitis, STD, and TB Prevention (NCHHSTP), Centers for Disease Control and Prevention (CDC).

Background and Brief Description

The Centers for Disease Control and Prevention (CDC) partners with the national HIV prevention workforce to; (1) Ensure that persons with HIV (PWH) are aware of their infection and successfully linked to medical care and treatment to achieve viral suppression, and (2) expand access to pre-exposure prophylaxis (PrEP), condoms, and other proven strategies for persons at risk of becoming infected. CDC funds state and local health departments and community-based organizations (CBOs) to optimally plan, integrate, implement, and sustain comprehensive HIV prevention programs and services for people with and at greatest risk of HIV infection, including blacks/African Americans; Hispanics/Latinos; all races/ethnicities of gay, bisexual, and other men who have sex with men (MSM); people who inject drugs (PWID); and transgender persons.

Through the CDC cooperative agreement program entitled CDC-RFA-PS19-1904: Capacity Building Assistance (CBA) for High Impact HIV Prevention Program Integration, the CDC Division of HIV/AIDS Prevention (DHAP) funds the CBA Provider Network (CPN) to deliver CBA to CDC-funded health departments and CBOs. As part of that funding, the CDC has funded the Asian & Pacific Islander American Health Forum (APIAHF) to provide community-based organization (CBO) midlevel and senior leadership state-of-the-art trainings on how to improve their management of people, programs, and organizations to optimally provide HIV prevention, treatment, and/or care services. A key foundational course for all who enroll in the Learning Community is a comprehensive overview of the national strategy on ending the HIV epidemic. This information collection evaluates the Learning Community. Specifically, CDC and APIAHF are requesting the Office of Management and Budget (OMB) to grant a three-year approval to collect data through the use of a Registration Form, a Post-Participation Survey, and a Post-Participation Semi-Structured Interview that will be administered to participants of the Learning Community.

The Learning Community participants will complete the Registration Form as part of the process for enrollment. The Learning Community Registration Form collects demographic information about participants including: (1) Business contact information (e.g., email and telephone number, job title); (2) basic demographics on race, ethnicity, gender, sexual orientation, and employment setting; (3) programmatic and population areas of focus; and (4) work experience as a manager or organizational lead. After participating in the foundational courses and other course offerings over a 12-week period, participants are invited to complete the Post-Participation Survey. The Post-Participation Survey is designed to elicit information from participants about their experiences and feedback regarding the content of the courses and the delivery of the course material and other services (management coaching services are also being offered).

Also, part of the offering of the Learning Community is a six-week Problem-Solving Intensive that is designed to help managers work through specific managerial problems using the tenants of human-centered design. At the end of the Intensive, participants will be invited to participate in a Semi-Structured Interview by Zoom where they will discuss their experiences and feedback on the Intensive. The Registration Form, Post-Participation Survey, and Post-Participation Semi-Structured Interview for those participating in the Intensive will be administered to CBO staff who participate in these respective Learning Community activities. Respondents will provide information electronically through the online Registration Form and Post-Participation Survey. The number of respondents is calculated based on an expected number of CBO managers at CDC directly funded organizations given the previous number of organizations funded by CDC. We estimate 270 CBO managers will complete the Registration Form and the Post-Participation Survey, and 135 will provide responses to the Semi-Structured Interview, annually.

The information collected will allow APIAHF to:

(1) Identify and respond to program performance issues identified through feedback from participants;

(2) Identify potentially new courses that may be of some use to HIV CBO leadership;

(3) Provide a timely and accurate aggregated accounting of patterns of usage and enrollment trends to CDC and other state, and local agencies, and other stakeholders seeking information about the services delivered in the Learning Community.

No other federal agency collects these types of national HIV prevention capacity building data. The total annualized burden is 89 hours. There are no other costs to respondents other than their time.

Estimated Annualized Burden Hours
Type of respondent | Form name | Number of respondents | Number of responses per respondent | Average burden per response (in hr.) | Total burden (in hr.)
CBO Managers | Registration Form | 270 | 1 | 3/60 | 14
CBO Managers | Post Participation Survey | 270 | 1 | 9/60 | 41
CBO Managers | Semi-Structured Zoom Interview | 135 | 1 | 15/60 | 34
Total |  |  |  |  | 89

Jeffrey M. Zirger,
Lead, Information Collection Review Office, Office of Scientific Integrity, Office of Science, Centers for Disease Control and Prevention.

[FR Doc. 2021-08578 Filed 4-23-21; 8:45 am]

BILLING CODE 4163-18-P